DEPARTMENT OF COMMERCE

United States Patent and Trademark Office

Submission of OMB Review; Comment Request; “Patent Prosecution Highway (PPH) Program”

The United States Patent and Trademark Office (USPTO) will submit to the Office of Management and Budget (OMB) for clearance the following proposal for collection of information under the provisions of the Paperwork Reduction Act (44 U.S.C. chapter 35).

Agency: United States Patent and Trademark Office, Commerce.

Title: Patent Prosecution Highway (PPH) Program.

OMB Control Number: 0651-0058.

Form Number(s):

• PTO/SB/20GLBL

• PTO/SB/20AR

• PTO/SB/20BR

• PTO/SB/20CZ

• PTO/SB/20EA

• PTO/SB/20MX

• PTO/SB/20NL

• PTO/SB/20PH

• PTO/SB/20RO

• PTO/SB/20TW

Type of Request: Regular.

Number of Respondents: 8,110 responses per year.

Average Hours per Response: The USPTO estimates that it will take the public approximately two hours to gather the necessary information, prepare the appropriate form, and submit a completed request to the USPTO.

Burden Hours: 16,200 hours.

Cost Burden: $0.

Needs and Uses: The information gathered in this collection is integral to the Patent Prosecution Highway (PPH) programs that the USPTO participates in by identifying patent applications being filed at multiple intellectual property offices across the globe, including at the USPTO. This includes declaring the Office of Earlier Examination (OEE) with whom the application at the OEE, and providing the necessary supporting documentation for the application. The forms also identify the correspondence between the claims being made at the USPTO with claims filed at the OEE and an explanation for that correspondence.

Frequency: On occasion.

Respondent's Obligation: Required to Obtain or Retain Benefits.

OMB Desk Officer: Nicholas A. Fraser, email: Nicholas_A._Fraser@omb.eop.gov.

Once submitted, the request will be publicly available in electronic format through www.reginfo.gov. Follow the instructions to view Department of Commerce collections currently under review by OMB.

Further information can be obtained by:

• Email: InformationCollection@uspto.gov. Include “0651-0068 copy request” in the subject line of the message.

• Mail: Marcie Lovett, Records and Information Governance Division Director, Office of the Chief Technology Officer, United States Patent and Trademark Office, P.O. Box 1450, Alexandria, VA 22313-1450.

Written comments and recommendations for the proposed information collection should be sent on or before May 29, 2018 to Nicholas A. Fraser, OMB Desk Officer, via email to Nicholas_A_Fraser@omb.eop.gov or by fax to 202-395-5197, marked to the attention of Nicholas A. Fraser.

Marcie Lovett,
Records and Information Governance Division Director, Office of the Chief Technology Officer, United States Patent and Trademark Office.

[FR Doc. 2018-08739 Filed 4-25-18; 8:45 am]

BILLING CODE 3510-16-P